DEPARTMENT OF THE INTERIOR

Fish and Wildlife Service

[FWS-R8-FHC-2015-N102; FXFR1334088TWG0W4-123-FF08EACT00]

Trinity River Adaptive Management Working Group; Public Meeting

AGENCY: Fish and Wildlife Service, Interior.

ACTION: Notice.

SUMMARY: We, the U.S. Fish and Wildlife Service, announce a public meeting of the Trinity River Adaptive Management Working Group (TAMWG). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting: TAMWG will meet from 9:30 a.m. to 4:45 p.m. Pacific Time on Tuesday, June 16, 2015, and from 9 a.m. to 2:30 p.m. Pacific Time on Wednesday, June 17, 2015. Deadlines: For deadlines on submitting written material, please see “Public Input” under SUPPLEMENTARY INFORMATION.

ADDRESSES: The in-person meeting will be held at the Weaverville Fire Hall, 125 Bremer Street, Weaverville, CA 96093.

FOR FURTHER INFORMATION CONTACT: Joseph C. Polos, U.S. Fish and Wildlife Service, 1655 Heindon Road, Arcata, CA 95521; telephone: 707-822-7201; email: joe_polos@fws.gov. Individuals with a disability may request an accommodation by sending an email to the point of contact.

SUPPLEMENTARY INFORMATION: In accordance with the requirements of the Federal Advisory Committee Act, 5 U.S.C. App., we announce that the Trinity River Adaptive Management Working Group will hold a meeting.

Background

The TAMWG affords stakeholders the opportunity to give policy, management, and technical input concerning Trinity River (California) restoration efforts to the TMC. The TMC interprets and recommends policy, coordinates and reviews management actions, and provides organizational budget oversight.

Meeting Agenda

• Designated Federal Officer (DFO) updates, election of officers, review of charter and bylaws, and administrative procedures,

• TMC Chair update,

• Executive Director's update,

• TRRP Workgroup/Science Coordinator update, and Decision Support System update,

• TRRP Implementation update, 2015 sites, 2016 sites, and status of permits,

• Flow management, Water Year 2015 Central Valley Project water management update, BOR long-term fall flow plan update, and fall flow plan for Water Year 2015,

• Solicitor's guidance on the TRRP watershed efforts,

• FY 2016 Budget/work planning,

• TMC current issues,

• TRRP background/refresher,

• Gravel augmentation short-term needs, and long-term gravel plan status,

• TRRP Communications plan, and status,

• Status of fish returns and goals of the TRRP,

• Joint meeting with TMC in August, and

• Public Comment.

The final agenda will be posted on the Internet at http://www.fws.gov/arcata.

Public Input
If you wish to | You must contact Joseph Polos (FOR FURTHER INFORMATION CONTACT) no later than
Submit written information or questions for the TAMWG to consider during the meeting | June 8, 2015.

Submitting Written Information or Questions

Interested members of the public may submit relevant information or questions for the TAMWG to consider during the meeting. Written statements must be received by the date listed in “Public Input,” so that the information may be available to the TAMWG for their consideration prior to this meeting. Written statements must be supplied to Elizabeth Hadley in one of the following formats: One hard copy with original signature, one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The minutes will be available for public inspection within 14 days after the meeting, and will be posted on the TAMWG Web site at http://www.fws.gov/arcata.

Dated: May 13, 2015.
Joseph C. Polos,
Supervisory Fish Biologist, Arcata Fish and Wildlife Office, Arcata, California.

[FR Doc. 2015-12070 Filed 5-18-15; 8:45 am]

BILLING CODE 4310-55-P